DEPARTMENT OF TRANSPORTATION

Federal Aviation Administration

Forty-Third Meeting, RTCA Special Committee 186: Automatic Dependent Surveillance-Broadcast (ADS-B)

AGENCY: Federal Aviation Administration (FAA), DOT.

ACTION: Notice of RTCA Special Committee 186 Automatic Dependent Surveillance-Broadcast (ADS-B) meeting.

SUMMARY: The FAA is issuing this notice to advise the public of a meeting of RTCA Special Committee 186 Automatic Dependent Surveillance-Broadcast (ADS-B).

DATES: The meeting will be held January 15-18, 2008, at 9 a.m. (Unless Otherwise noted).

ADDRESSES: The meeting will be held at Hilton Melbourne Beach Oceanfront Hotel, Melbourne, FL.

FOR FURTHER INFORMATION CONTACT: (1) RTCA Secretariat (Hal Moses), 1828 L Street, NW., Suite 805, Washington, DC 20036, (202) 833-9339; fax (202) 833-9434; Web site http://www.rtca.org. (2) Hosted by: Rockwell Collins.

SUPPLEMENTARY INFORMATION: Pursuant to section 10(a)(2) of the Federal Advisory Committee Act (Pub. L. 92-463, 5 U.S.C., Appendix 2), notice is hereby given for a Special Committee 186 meeting. The agenda will include:

• January 15:

• All Day, ASSAP Subgroup.

• All Day; CDTI Subgroup.

• January 16:

• All Day, WG1/ATSA SURF IA Subgroup.

• All Day, ASSAP Subgroup.

• All Day, CDTI Subgroup.

• January 17:

• All Day, WG1/ASTA SURF IA Subgroup.

• All Day, ASSAP Subgroup.

• All Day, CDTI Subgroup.

• January 18:

• Open Plenary (Chairman's Introductory Remarks, Review Meeting Agenda, Review/Approval of the Forty-Second Meeting Summary, RTCA Paper No. 286-07/SC186-255, Date, Place, and Time of Next Meeting).

• FAA Surveillance and Broadcast Services (SBS) Program—Status.

• Final Report of Ad-hoc Committee on Applications Standardization Process.

• Working Group Reports.

• WG-1—Operations and Implementation.

• WG-2—TIS-B MASPS.

• WG-3—1090 MHz MOPS.

• WG-4—Applications Technical Requirements.

• WG-5—UAT MOPS.

• RFG—Requirements Focus Group.

• Closing Plenary Session (New/Other Business, Review Actions Items/Work Program, Adjourn).

• NOTE:

• AD—Application Development.

• ASAS—Aircraft Surveillance Applications System.

• ASSAP—Airborne Surveillance & Separation Assurance Processing.

• CDTI—Cockpit Display of Traffic Information.

• MASPS—Minimum Aviation System Performance Standards.

• MOPS—Minimum Operational Performance Standards.

• NRA—Non-Radar Airspace.

• RFG—Requirements Focus Group.

• STP—Surveillance Transmit Processing.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 12, 2007.
Robert L. Bostiga,
RTCA Advisory Committee (Acting).

[FR Doc. 07-6189 Filed 12-27-07; 8:45 am]

BILLING CODE 4910-13-M